FEDERAL ELECTION COMMISSION

Sunshine Act Notices, Meeting

AGENCY: Federal Election Commission

* * * * *

DATE & TIME: Tuesday, August 21, 2001 at 10:00 A.M.

PLACE: 999 E Street, NW., Washington, DC.

STATUS: This meeting will be closed to the public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

* * * * *

DATE & TIME: Thursday, August 23, 2001 at 10:00 A.M.

PLACE: 999 E Street, NW., Washington, DC. (Ninth Floor)

STATUS: This meeting will be open to the public.

ITEMS TO BE DISCUSSED: Correction and Approval of Minutes.

Advisory Opinion 2001-11: Democratic Party of Virginia by counsel, Neil Reiff.

Regulations Priorities.

Administrative Matters.

PERSON TO CONTACT FOR INFORMATION: Mr. Ron Harris, Press Officer Telephone: (202) 694-1220.

Mary W. Dove,
Secretary of the Commission.

[FR Doc. 01-20716 Filed 8-14-01; 10:36 am]

BILLING CODE 6715-01-M